DEPARTMENT OF DEFENSE

Office of the Secretary

32 CFR Part 252

[Docket ID: DOD-2012-OS-0170]

RIN 0790-AI98

Professional U.S. Scouting Organization Operations at U.S. Military Installations Overseas; Technical Amendment

AGENCY: Under Secretary of Defense for Personnel and Readiness, DoD.

ACTION: Final rule; technical amendment.

SUMMARY: On January 25, 2016, the Department of Defense published a final rule, 81 FR 3959-3962, titled Professional U.S. Scouting Organization Operations at U.S. Military Installations Overseas. DoD is making a technical amendment due to the discovery of a mistake regarding the use of nonappropriated funds. A paragraph in the final rule incorrectly stated nonappropriated funds cannot be used to reimburse salaries and benefits of qualified scouting organization employees. Nonappropriated funds may be used to reimburse salaries and benefits of employees of qualified scouting organizations for periods during which their professional scouting employees perform services in overseas areas in direct support of DoD personnel and their families.

DATES: This rule is effective September 7, 2016.

FOR FURTHER INFORMATION CONTACT: Ms. Patricia Toppings, 571-372-0485.

SUPPLEMENTARY INFORMATION: This technical amendment amends 32 CFR part 252 to read as set forth in the amendatory language in this final rule.

List of Subjects in 32 CFR Part 252

Military installations, Military personnel, Scout organizations.

Accordingly 32 CFR part 252 is amended as follows:

PART 252—PROFESSIONAL U.S. SCOUTING ORGANIZATION OPERATIONS AT U.S. MILITARY INSTALLATIONS OVERSEAS

1. The authority citation for part 252 continues to read as follows:

Authority: E.O. 12715, May 3, 1990, 55 FR 19051; 10 U.S.C. 2606, 2554, and 2555.

2. Amend § 252.6 by revising paragraph (a)(6)(i) to read as follows:

§ 252.6 Procedures.

(a) * * *

(6) * * *

(i) APF is not used to reimburse their salaries and benefits.

* * * * *

Dated: August 30, 2016.
Aaron Siegel,
Alternate OSD Federal Register Liaison Officer, Department of Defense.

[FR Doc. 2016-21254 Filed 9-6-16; 8:45 am]

BILLING CODE 5001-06-P